INTERNATIONAL TRADE COMMISSION

[Investigation No. AA1921-167 (Fifth Review)]

Pressure Sensitive Plastic Tape From Italy; Termination of Five-Year Review

AGENCY: United States International Trade Commission.

ACTION: Notice.

SUMMARY: The Commission instituted the subject five-year review in March 1, 2021 to determine whether revocation of the antidumping duty order on pressure sensitive plastic tape from Italy would be likely to lead to continuation or recurrence of material injury. On June 7, 2021, the Department of Commerce published notice that it was revoking the order effective April 14, 2021, because no domestic interested party filed a timely notice of intent to participate. Accordingly, the subject review is terminated.

DATES: April 14, 2021 (effective date of revocation of the order).

FOR FURTHER INFORMATION CONTACT: Andres Andrade (202-205-2078), Office of Investigations, U.S. International Trade Commission, 500 E Street SW, Washington, DC 20436. Hearing-impaired individuals are advised that information on this matter can be obtained by contacting the Commission's TDD terminal on 202-205-1810. Persons with mobility impairments who will need special assistance in gaining access to the Commission should contact the Office of the Secretary at 202-205-2000. General information concerning the Commission may also be obtained by accessing its internet server (https://www.usitc.gov).

Authority: This review is being terminated under authority of title VII of the Tariff Act of 1930 and pursuant to section 751(c) of the Tariff Act of 1930 (19 U.S.C. 1675(c)). This notice is published pursuant to § 207.69 of the Commission's rules (19 CFR 207.69).

By order of the Commission.
Issued: June 11, 2021.
Katherine Hiner,
Acting Secretary to the Commission.

[FR Doc. 2021-12730 Filed 6-16-21; 8:45 am]

BILLING CODE 7020-02-P